DEPARTMENT OF COMMERCE

Foreign-Trade Zones Board

[Docket 53-2011]

Foreign-Trade Zone 74, Baltimore, MD; Application for Reorganization/Expansion Under Alternative Site Framework

An application has been submitted to the Foreign-Trade Zones (FTZ) Board (the Board) by the Baltimore Development Corporation on behalf of the City of Baltimore, grantee of FTZ 74, requesting authority to reorganize and expand the zone under the alternative site framework (ASF) adopted by the Board (74 FR 1170-1173, 01/12/09 (correction 74 FR 3987, 01/22/09); 75 FR 71069-71070, 11/22/10)). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on August 10, 2011.

FTZ 74 was approved by the Board on January 21, 1982 (Board Order 183, 47 FR 5737, 2/8/82), and expanded on January 31, 1989 (Board Order 427, 54 FR 5992, 2/7/89), on April 5, 2001 (Board Order 1157, 66 FR 19423, 4/16/01), and on December 9, 2005 (Board Order 1424, 70 FR 76023, 12/22/05).

The current zone project includes the following sites: Site 1 (20 acres)—Holabird Industrial Park, Baltimore; Site 2 (127 acres)—within the Point Breeze Business Center, 2500 Broening Highway, Baltimore; Site 3 (167.6 acres)—within the Seagirt Marine Terminal, Baltimore; Site 4 (287.5 acres)—Dundalk Marine Terminal, located on Broening Highway, Baltimore; Site 5 (97 acres)—Chesapeake Terminal and American Port Services Center, Baltimore; Site 6 (274 acres)—Atlantic and Fairfield Terminals, Baltimore; Site 7 (196 acres)—North & South Locust Point Terminals, Baltimore; Site 8 (157 acres)—Rukert and Clinton Street Marine Terminals, Baltimore; Site 9 (15 acres)—Belt's Business Center, 600 Folcroft Street, Baltimore; Site 10 (81 acres)—Pulaski Business Park, 6200 Pulaski Highway, Baltimore; Site 11 (12 acres)—Obrecht Business Center, 6200 Frankford Avenue, Baltimore; Site 12 (32 acres total)—three parcels located in Baltimore at 1200 South Newkirk Street (14 acres), at 4200 Boston Street (2 acres), and at 16 acres adjacent to Newkirk and Boston Streets; Site 13 (100 acres)—Marley Neck Industrial Park, 6600 Cabot Drive, Baltimore; Site 14 (91 acres)—Enterprise Business Park, 1501 Perryman Road, Perryman; Site 15 (8 acres, expires 2/1/12)—5107 North Point Boulevard, Sparrows Point; Site 16 (3.71 acres, expires 2/1/12)—5003 Holabird Avenue, Baltimore; Site 17 (5.06 acres, expires 2/1/12)—7700 Rolling Mill Road, Baltimore; Site 18 (10.19 acres, expires 2/1/12)—8200/8203 Fischer Road, Baltimore; Site 19 (12.39 acres, expires 2/1/12)—4501 Curtis Avenue, Baltimore; Site 20 (4 acres, expires 4/2/12)—1200 E. Patapsco Avenue, Baltimore; Site 21 (15.5 acres, expires 4/2/12)—3501 E. Biddle Street, Baltimore; Site 22 (4.94 acres, expires 9/30/12)—3901-4001 Dillon Street, Baltimore; Site 23 (7.4 acres, expires 12/31/12)—3400 E. Biddle Street, Baltimore; and, Site 24 (2.9 acres, expires 12/31/12)—8004 Stansbury Road, Dundalk.

The grantee's proposed service area under the ASF would be the City of Baltimore and the Counties of Anne Arundel, Baltimore, Cecil and Harford, Maryland. If approved, the grantee would be able to serve sites throughout the service area based on companies' needs for FTZ designation. The proposed service area is within and adjacent to the Baltimore Customs and Border Protection port of entry. Because the ASF only pertains to establishing or reorganizing a general-purpose zone, the application would have no impact on FTZ 74's authorized subzones.

The applicant is requesting authority to reorganize and expand its existing zone project under the ASF as follows: remove Sites 1, 3, 5, 10, 11 and 14 due to changed circumstances; expand the boundaries of Sites 4, 16 and 17; reduce the boundaries of Sites 2, 6, 7, 8, 12 and 13; and, redesignate a 20-acre portion of Site 8 as Site 25. Sites 2, 4 and 16 would become “magnet” sites and Sites 6-9, 12, 13, 15 and 17-25 would become “usage-driven” sites. The companies located at the “usage-driven” sites are: Trade Zone Operations (Site 6); C. Steinweg (Baltimore) (Sites 7 & 15); Rukert Terminals (Site 8); Belt's Corporation (Site 9); Henry Bath (Site 12); Under Armour (Site 13); Pacorini Metals (Sites 17 & 25); Ruxton Services (Sites 18 & 19); S.H. Bell Company Baltimore (Sites 20 & 21); Overflo Warehouse (Site 22); White Marsh Transport (Site 23); and Edgemere Terminals (Site 24).

The applicant is also requesting approval of a new “magnet” site and four new “usage-driven” sites: Proposed Site 26 (146 acres)—Sparrows Point Shipyard, 600 Shipyard Road, Baltimore (Baltimore County); Proposed Site 27 (2.3 acres)—J. D. Neuhaus, LP, 9 Loveton Circle, Sparks (Baltimore County); Proposed Site 28 (2.5 acres)—McCormick & Company, Inc., 11102 McCormick Road, Hunt Valley (Baltimore County); Proposed Site 29 (17.6 acres)—McCormick & Company, Inc., 10901 Gilroy Road, Hunt Valley (Baltimore County); and, Proposed Site 30 (8.48 acres)—McCormick & Company, Inc., 4607 Appliance Drive, Belcamp (Harford County).

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is October 31, 2011. Rebuttal comments in response to material submitted during the foregoing period may be submitted during the subsequent 15-day period to October 31, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: August 10, 2011.
Andrew McGilvray,
Executive Secretary.

[FR Doc. 2011-20836 Filed 8-15-11; 8:45 am]

BILLING CODE P